DEPARTMENT OF ENERGY

Federal Energy Regulatory Commission

[Docket No. EG00-137-000, et al.]

TXU (No. 5) Pty Ltd, et al.; Electric Rate and Corporate Regulation Filings

June 27, 2000.

Take notice that the following filings have been made with the Commission:

1. TXU (No. 5) Pty Ltd.

[Docket No. EG00-137-000]

Take notice that on June 19, 2000, TXU (No. 5) Pty Ltd (TXU (No. 5) filed with the Federal Energy Regulatory Commission (Commission) a supplement to its application for determination of exempt wholesale generator status pursuant to Section 32 of the Public Utility Holding Company Act of 1935 and Part 365 of the Commission's regulations. TXU No. 5 is an Australian corporation that is an indirect subsidiary of Texas Utilities Company, a Texas corporation which is an exempt holding company under the Public Utility Holding Company Act of 1935, as amended.

Comment date: July 18, 2000, in accordance with Standard Paragraph E at the end of this notice. The Commission will limit its consideration of comments to those that concern the adequacy or accuracy of the application.

2. Front Range Power Company, LLC

[Docket No. EG00-159-000]

Take notice that on June 21, 2000, Front Range Power Company, LLC, 6647 Generation Drive, Fountain, Colorado 80817, filed with the Federal Energy Regulatory Commission an amendment to its application for determination of exempt wholesale generator status pursuant to part 365 of the Commission's regulations. The initial application was filed on June 5, 2000, Front Range Power Company filed with the Commission an amendment to its June 5, 2000, application.

Front Range Power Company, LLC is a Colorado limited liability company formed by Coastal Power Company (Coastal), a Delaware corporation and wholly owned affiliate of The Coastal Corporation and Colorado Springs Utilities (CSU), an enterprise of the City of Colorado Springs, Colorado, to develop, design, construct, own, operate and maintain a natural gas-fired combined-cycle electric generation plant with a maximum capacity of approximately 480 MW, located on a 23-acre parcel of land approximately 17 miles south of Colorado Springs, Colorado.

Comment date: July 18, 2000, in accordance with Standard Paragraph E at the end of this notice. The Commission will limit its consideration of comments to those that concern the adequacy or accuracy of the application.

3. Constellation Power Source Generation, Inc.

[Docket No. EG00-179-000]

Take notice that on June 21, 2000, Constellation Power Source Generation, Inc. (Applicant), a Maryland corporation with its principal place of business at 511 W. Market Street, Baltimore, Maryland 21203-1475, filed with the Federal Energy Regulatory Commission an application for determination, on an expedited basis, of exempt wholesale generator status pursuant to Part 365 of the Commission's regulations.

Comment date: July 18, 2000, in accordance with Standard Paragraph E at the end of this notice. The Commission will limit its consideration of comments to those that concern the adequacy or accuracy of the application.

4. Calvert Cliffs Nuclear Power Plant, Inc.

[Docket No. EG00-180-000]

Take notice that on June 21, 2000, Calvert Cliffs Nuclear Power Plant, Inc. (Applicant), a Maryland corporation with its principal place of business at 39 W. Lexington Street, Baltimore, Maryland 21203-1475, filed with the Federal Energy Regulatory Commission an application for determination, on an expedited basis, of exempt wholesale generator status pursuant to Part 365 of the Commission's regulations.

Comment date: July 18, 2000, in accordance with Standard Paragraph E at the end of this notice. The Commission will limit its consideration of comments to those that concern the adequacy or accuracy of the application.

5. Hamakua Energy Partners, L.P.

[Docket No. EG00-181-000]

Take notice that on June 21, 2000, Hamakua Energy Partners, L.P., a Hawaii limited partnership, with its principal office located at J. A. Jones Drive, Charlotte, North Carolina 28287, filed with the Federal Energy Regulatory Commission (Commission) an Application for determination of exempt wholesale generator status pursuant to Part 365 of the Commission's regulations and Section 32 of the Public Utility Holding Company Act of 1935, as amended. Applicant is a Hawaii limited partnership that will be engaged directly and exclusively in operating an approximately 63 MW net naphtha and distillate oil-fired power plant (the Facility) located in Honakaa, in the northern coastal region of the island of Hawaii, and selling energy at wholesale from the Facility.

Comment date: July 18, 2000, in accordance with Standard Paragraph E at the end of this notice. The Commission will limit its consideration of comments to those that concern the adequacy or accuracy of the application.

6. PJM Interconnection, L.L.C.

[Docket No. EL00-85-000]

Take notice that on June 19, 2000, PJM Interconnection, L.L.C. (PJM), tendered for filing a petition under Rule 207 of the Commission's Rules of Practice and Procedure, 18 CFR 385.207, requesting that the Commission find and declare that PJM may recover from PJM's customers, through PJM's formula rates, PJM's costs to acquire from the PJM transmission owners the information technology and other assets that PJM uses to conduct its operations.

Comment date: July 19, 2000, in accordance with Standard Paragraph E at the end of this notice. The Commission will limit its consideration of comments to those that concern the adequacy or accuracy of the application.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-16992 Filed 7-5-00; 8:45 am]

BILLING CODE 6717-01-P